DEPARTMENT OF COMMERCE

National Oceanic and Atmospheric Administration

RIN 0648-XH102

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a 3-day meeting in August to discuss the items contained in the agenda in the SUPPLEMENTARY INFORMATION.

DATES: The meetings will be held from August 13, 2019 to August 15, 2019, starting on Tuesday August 13 at 9 a.m., through Thursday August 15 at 5 p.m.

ADDRESSES: The meetings will be held at the Courtyard Marriott Isla Verde Resort, 7012 Boca de Cangrejos, Avenida Isla Verde, Carolina, Puerto Rico 00979.

FOR FURTHER INFORMATION CONTACT: Caribbean Fishery Management Council, 270 Muñoz Rivera Avenue, Suite 401, San Juan, Puerto Rico 00918-1903, telephone: (787) 766-5926.

SUPPLEMENTARY INFORMATION:

—Call to Order

—Adoption of the Agenda

—SSC Development of Puerto Rico Ecosystem Conceptual Model

—Determination of direction and strengths of the boxes representing ecosystem components (e.g., ecological, economic, social)

—Determination of Critical Links that can serve as Indicators

—SSC Development of St. Thomas/St. John Ecosystem Conceptual Model

—Determination of direction and strengths of the boxes representing ecosystem components (e.g., ecological, economic, social)

—Determination of Critical Links that can serve as Indicators

—SSC Development of St. Croix Ecosystem Conceptual Model

—Determination of direction and strengths of the boxes representing ecosystem components (e.g., ecological, economic, social)

—Determination of Critical Links that can serve as Indicators

—Other Business

—Adjourn

The order of business may be adjusted as necessary to accommodate the completion of agenda items. The meeting will begin on August 13, 2019 at 9:00 a.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico 00918-1903, telephone: (787) 766-5926, at least 5 days prior to the meeting date.

Authority: 16 U.S.C. 1801 et seq.

Dated: July 16, 2019.
Tracey L. Thompson,
Acting Deputy Director, Office of Sustainable Fisheries, National Marine Fisheries Service.

[FR Doc. 2019-15421 Filed 7-18-19; 8:45 am]

BILLING CODE 3510-22-P